DEPARTMENT OF COMMERCE

National Oceanic and Atmospheric Administration

[RTID 0648-XC765]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, March 7, 2023, starting at 9 a.m. and continue through 12:30 p.m. on Wednesday, March 8, 2023. See SUPPLEMENTARY INFORMATION for agenda details.

ADDRESSES: The meeting will take place over webinar using the Webex platform with a telephone-only connection option. Details on how to connect to the webinar by computer and by telephone will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review and possibly modify the 2023 acceptable biological catch (ABC) recommendation and develop 2024-25 ABC recommendations for Illex squid based on updated analysis and work products developed to evaluate recent changes to the fishery and stock dynamics. The SSC will also review and provide feedback on the most recent Mid-Atlantic State of the Ecosystem report and the work plan/products of the SSC's Ecosystem Work Group. The SSC will review and provide feedback on the utility and potential application of the work products developed as part of a research project on short-term forecasts of species distributions. The SSC will also receive a presentation on the Council supported Ocean City, MD recreational video project and on the results and findings of the Council's recently completed management strategy evaluation on the recreational summer flounder fishery. In addition, the SSC will receive an update on the activities and future products of the Economic Work Group, OFL CV sub-group, and the constant/average ABC sub-group. The SSC may take up any other business as necessary.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: February 9, 2023.
Rey Israel Marquez,
Acting Deputy Director, Office of Sustainable Fisheries, National Marine Fisheries Service.

[FR Doc. 2023-03146 Filed 2-14-23; 8:45 am]

BILLING CODE 3510-22-P